DEPARTMENT OF ENERGY

Federal Energy Regulatory Commission

[Docket No. ER95-1528-009, et al.]

Wisconsin Public Service Corporation, et al.; Electric Rate and Corporate Filings

November 12, 2004.

The following filings have been made with the Commission. The filings are listed in ascending order within each docket classification.

1. Wisconsin Public Service Corporation, Wisconsin Public Service Corporation, WPS Power Development, Inc., and WPS Energy Services, Inc., Mid-American Power, LLC, Sunbury Generation, LLC, WPS Canada Generation, Inc. and WPS New England Generation, Inc., WPS Westwood Generation, LLC, Advantage Energy Inc.

[Docket Nos. ER95-1528-0090, ER96-1088-034, ER96-1858-014, ER99-3420-003, ER99-1936-002, ER01-1114-002, ER97-2758-009]

Take notice that on November 5, 2004, WPS Resources Corporation (WPSR) on behalf of the following subsidiaries: Wisconsin Public Service Corporation; WPS Energy Services, Inc.; WPS Power Development, Inc.; Mid-American Power, LLC; Sunbury Generation, LLC; WPS Canada Generation, Inc.; WPS New England Generation, Inc.; WPS Westwood Generation, LLC, and Advantage Energy, Inc., tendered for filing tariff sheets that modify their market-based rate tariffs to add the Market Behavior Rules as adopted by the Commission. WPSR states that on September 27, 2004, it submitted a request for three-year renewal of the market-based rate authority for each of the subsidiaries. WPSR requests an effective date of December 17, 2003.

WPSR states that a copy of the filing was served on all parties listed on the Commission's official service lists in the referenced proceedings and the Public Service Commission of Wisconsin.

Comment Date: 5 p.m. eastern time on November 26, 2004.

2. NewCorp Resources Electric Cooperative, Inc.

[Docket No. ER02-2001-000]

Take notice that on September 3, 2004, NewCorp Resources Electric Cooperative, Inc. filed a Request for Waiver of Order No. 2001 Electric Quarterly Reports Requirements.

Comment Date: 5 p.m. eastern time on December 3, 2004.

3. Midwest Independent Transmission System Operator, Inc.

[Docket No. ER04-458-004]

Take notice that on November 8, 2004, the Midwest Independent Transmission System Operator, Inc., (Midwest ISO) submitted a compliance filing pursuant to the Commission's Order issued July 8, 2004, in Docket Nos. ER04-458-000 and ER04-458-001, 108 FERC ¶ 61,027 (2004).

The Midwest ISO states that it has electronically served a copy of this filing upon all Midwest ISO Members, Member representatives of Transmission owners and Non-Transmission Owners, the Midwest ISO Advisory Committee participants, as well as all State commissions within the region. In addition, the Midwest ISO states that the filing has been posted on the Midwest ISO Web site at http://www.midwestiso.org under the heading “Filings to FERC” for other interested parties. The Midwest ISO further states that it will provide hard copies to any interested parties upon request.

Comment Date: 5 p.m. eastern time on November 29, 2004.

4. Alpena Power Generation, L.L.C.

[Docket No. ER04-1004-002]

Take notice that on November 5, 2004, Alpena Power Generation, L.L.C. (Alpena Generation) tendered for filing a second supplement to its application for market-based rate authority filed on July 9, 2004, as amended on August 27, 2004, in response to the Commission's October 22, 2004, deficiency letter in Docket Nos. ER04-1004-000 and ER04-1004-001.

Alpena Generation states that copies of the filing were served on the public utility's jurisdictional customers and the Michigan Public Service Commission.

Comment Date: 5 p.m. eastern time on November 26, 2004.

5. Orion Power MidWest, L.P.

[Docket Nos. ER05-92-000 and ER05-92-001]

Take notice that on October 28, 2004, as amended on November 2, 2004, Orion Power MidWest, L.P. (OPMW) filed a revised tariff sheet designated as First Revised Sheet No. 1, Orion Power MidWest, L.P. FERC Electric Tariff, First Revised Volume No. 1. OPMW requests an effective date of December 1, 2004.

OPMW states that copies of the filing were served on OPMW's jurisdictional customers.

Comment Date: 5 p.m. eastern time on November 23, 2004.

6. PPL Electric Utilities Corporation

[Docket No. ER05-169-001]

Take notice that on November 5, 2004, PPL Electric Utilities Corporation (PPL Electric) submitted an amendment to its November 2, 2004, filing of revisions to PPL Electric Rate Schedule FERC No. 180, a transmission agreement between PPL Electric and Allegheny Electric Cooperating, Inc. (Allegheny).

PPL Electric states that copies of the filing were served on Allegheny.

Comment Date: 5 p.m. eastern time on November 26, 2004.

7. Allegheny Energy Supply Company, LLC

[Docket No. ER05-180-000]

Take notice that on November 4, 2004, Allegheny Energy Supply Company, LLC (AE Supply) filed a Notice of Cancellation of Hatfield's Ferry LLC, FERC Electric Tariff, Original Volume No. 1. AE Supply requests an effective date of January 1, 2005.

AE Supply states that a copy of the Notice of Cancellation has been served on all persons with currently effective service agreements under the rate schedule referenced above.

Comment Date: 5 p.m. eastern time on November 26, 2004.

8. AYP Energy, Inc.

[Docket No. ER05-181-000]

Take notice that on November 4, 2004, AYP Energy, Inc. (AYP) filed a Notice of Cancellation of AYP Energy, Inc., First Revised Rate Schedule No. 1. AYP requests an effective date of January 1, 2005.

AYP states that a copy of the Notice of Cancellation has been served on all persons with currently effective service agreements under the rate schedule referenced above.

Comment Date: 5 p.m. eastern time on November 26, 2004.

9. Midwest Independent Transmission System Operator, Inc.

[Docket No. ER05-182-000]

Take notice that on November 4, 2004, the Midwest Independent Transmission System Operator, Inc., (Midwest ISO) filed an Interconnection and Operating Agreement among the Electric Generation Business Function of Northern States Power Company d/b/a Xcel Energy, the Functionally Unbundled Transmission Function of Northern States Power Company d/ba Xcel and the Midwest ISO.

Midwest ISO states that the filing was served on the parties to the Interconnection Agreement.

Comment Date: 5 p.m. eastern time on November 26, 2004.

10. Carolina Power & Light Company

[Docket No. ER05-183-000]

Take notice that on November 4, 2004, Carolina Power & Light Company, doing business as Progress Energy Carolina, (CP&L) tendered for filing a Generator Balancing Service Schedule as Schedule 4B under the Open Access Transmission Tariffs of CP&L and Florida Power Corporation. CP&L requests an effective date of January 1, 2005.

CP&L states that copies of the filing were served on the North Carolina Utilities Commission, the South Carolina Public Service Commission and CP&L's jurisdictional customers.

Comment Date: 5 p.m. eastern time on November 26, 2004.

11. PJM Interconnection, L.L.C.

[Docket No. ER05-184-000]

Take notice that on November 4, 2004, PJM Interconnection, L.L.C. (PJM) filed amendments to the PJM Open Access Transmission Tariff and the Amended and Restated Operating Agreement of PJM Interconnection, L.L.C. to create a special membership for its real-time option Economic Load Response Program. PJM requests an effective date of November 5, 2004.

PJM states that copies of the filing were served on all PJM members and each state electric utility regulatory commission in the PJM region.

Comment Date: 5 p.m. eastern time on November 26, 2004.

12. PJM Interconnection, L.L.C.

[Docket No. ER05-185-000]

Take notice that on November 4, 2004, PJM Interconnection, L.L.C. (PJM) filed proposed costs of generating units for providing black start service in the Commonwealth Edison Company zone to be recovered under Schedule 6A and of the PJM Tariff in lieu of the formula rate specified in the Tariff.

PJM states that copies of the filing were served on all PJM members and each state electric utility regulatory commission in the PJM region.

Comment Date: 5 p.m. eastern time on November 26, 2004.

13. Midwest Independent Transmission System Operator, Inc.

[Docket No. ER05-186-000]

Take notice that on November 5, 2004, the Midwest Independent Transmission System Operator, Inc., (Midwest ISO) filed a Large Generator Interconnection Agreement among Butler Ridge, LLC, American Transmission Company, LLC and the Midwest ISO.

Midwest ISO states that the filing was served on the parties to the Interconnection Agreement.

Comment Date: 5 p.m. eastern time on November 26, 2004.

14. Virginia Electric and Power Company

[Docket No. ER05-187-000]

Take notice that on November 5, 2004, Virginia Electric and Power Company (Dominion) tendered for filing a new Appendix E-2 for the Service Agreement under its Open Access Transmission Tariff, FERC Electric Tariff Second Revised Volume No. 5, for Network Integration Transmission Service between Dominion and North Carolina Electric Membership Corporation (NCEMC). Dominion states that the revised service agreement adds charges to reimburse Dominion for costs associated with the conversion of Mapleton Delivery Point for Roanoke Electric Cooperation.

Dominion states that copies of the filing were served on the NCEMC, the North Carolina Utilities Commission and the Virginia State Corporation Commission.

Comment Date: 5 p.m. eastern time on November 26, 2004.

15. Entergy Services, Inc.

[Docket No. ER05-188-000]

Take notice that on November 5, 2004, Entergy Louisiana, Inc. (Entergy Louisiana) tendered for filing an Interconnection Agreement between Entergy Louisiana and Perryville Energy Partners, L.L.C., designated as Original Service Agreement No. 381 under Entergy Services, Inc.'s FERC Electric Tariff, Second Revised Volume No. 3.

Comment Date: 5 p.m. eastern time on November 26, 2004.

16. Entergy Services, Inc.

[Docket No. ER05-189-000]

Take notice that on November 5, 2004, Entergy Services, Inc., on behalf of Entergy Louisiana, Inc. (Entergy Louisiana), tendered for filing a Notice of Termination of Original Service Agreement No. 102 under Entergy Services, Inc.'s FERC Electric Tariff, First Revised Volume No. 3 and Supplement No. 1 thereto, the Interconnection and Operating Agreement and Generator Imbalance Agreement between Entergy Louisiana and Cleco Midstream Resources, LLC.

Comment Date: 5 p.m. eastern time on November 26, 2004.

17. Midwest Independent Transmission System Operator, Inc. and Northern Indiana Public Service Company

[Docket No. ER05-190-000]

Take notice that on November 5, 2004, the Midwest Independent Transmission System Operator, Inc., (Midwest ISO) and Northern Indiana Public Service Company (NIPSCO) (collectively, Applicants) filed a joint application under section 205 of the Federal Power Act for approval of transition to formulae rate. Applicants submitted proposed revisions to the Open Access Transmission Tariff of the Midwest ISO to reflect NIPSCO's transition from stated rates to the formulae rates under Attachment O, Rate Formulae of the Tariff. Applicants request an effective date of December 1, 2004.

Applicants state that copies of this filing have been served electronically on all Midwest ISO members, member representatives of transmission customers, and the Midwest ISO Advisory Committee participants, as well as all State commissions within the affected regions. In addition, Applicants state that the filing has been posted on the Midwest ISO's Web site at http://www.midwestiso.org under the heading “Filings to FERC.”

Comment Date: 5 p.m. eastern time on November 26, 2004.

18. Perryville Energy Partners, L.L.C.

[Docket No. ER05-191-000]

Take notice that on November 5, 2004, Perryville Energy Partners, L.L.C. (PEP) tendered for filing an Interconnection and Service Charge Agreement (Agreement) between PEP and Entergy Louisiana, Inc. (Entergy Louisiana) requesting that the Commission permit the Agreement to become effective as of the date that PEP's sale to Entergy Louisiana of the Perryville 718 megawatt natural gas-fired generating facility located in Ouachita Parish near Perryville, Louisiana, becomes effective.

PEP states that copies of the filing were served on Entergy Louisiana and the Louisiana Public Service Commission.

Comment Date: 5 p.m. eastern time on November 26, 2004.

19. PJM Interconnection, L.L.C.

[Docket No. ER05-192-000]

Take notice that on November 1, 2004, PJM Interconnection, L.L.C. (PJM) submitted for filing (1) seven service agreements that were previously filed with and accepted by the Commission, and (2) five service agreements that have been filed with the Commission and for which Commission action is pending to redesignate them with new service agreement numbers. PJM requests waiver to permit the prior Commission-approved effective dates for the agreements previously accepted for filing by the Commission and to permit the effective dates originally requested for the agreements for which Commission action is currently pending.

PJM states that copies of the filing were served on the parties to the agreements and the state regulatory commissions within the PJM region.

Comment Date: 5 p.m. eastern time on November 22, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3260 Filed 11-18-04; 8:45 am]

BILLING CODE 6717-01-P